DEPARTMENT OF HOMELAND SECURITY

Coast Guard

33 CFR Part 117

[Docket No. USCG-2015-0967]

Drawbridge Operation Regulation; Willamette River, Portland, OR

AGENCY: Coast Guard, DHS.

ACTION: Notice of temporary deviation from regulations.

SUMMARY: The Coast Guard has issued a temporary deviation from the operating schedule that governs the Hawthorne Bridge, mile 13.1, across the Willamette River at Portland, OR. The deviation is necessary for maintenance repairs to the bridge lifting mechanism. This deviation allows the bridges to remain in the closed-to-navigation position to allow safe and timely movement of workers.

DATES: This deviation is effective from 5 a.m. to 5 p.m. on November 15, 2015.

ADDRESSES: The docket for this deviation, [USCG-2015-0967] is available at http://www.regulations.gov. Type the docket number in the “SEARCH” box and click “SEARCH”. Click on Open Docket Folder on the line associated with this deviation.

FOR FURTHER INFORMATION CONTACT: If you have questions on this temporary deviation, call or email the Bridge Administrator, Coast Guard Thirteenth District; telephone 206-220-7234 email d13-pf-d13bridges@uscg.mil.

SUPPLEMENTARY INFORMATION: Multnomah County has requested that the Hawthorne Bridge, mile 13.1, across the Willamette River at Portland, Oregon remain in the closed-to-navigation position from 5 a.m. until 5 p.m. on November 15, 2015 to allow for critical maintenance repairs to the bridge lifting mechanism.

The Hawthorne Bridge is a vertical lift bridge providing 49 feet of vertical clearance in the closed-to-navigation position, and unlimited clearance in the open position referenced to the vertical clearance above Columbia River Datum 0.0. The Hawthorne Bridge operates in accordance with 33 CFR 117.897, which allows the bridge to remain closed between 7 a.m. and 9 a.m. and 4 p.m. and 6 p.m. Monday through Friday. No advance notice for an opening is required.

Moderate to heavy vessel traffic exists on this part of the Willamette River, including vessels ranging from commercial tug and barge to small pleasure craft. The average number of drawbridge openings for the time covered by this deviation is three lifts. This deviation allows the lift span of the Hawthorne Bridge across the Willamette River, mile 13.1, to remain in the closed-to-navigation position, and need not open for maritime traffic from 5 a.m. until 5 p.m. on November 15, 2015. The bridge shall operate in accordance to 33 CFR 117.897 at all other times.

Vessels able to pass through the bridge in the closed-to-navigation position may do so at anytime. The bridge will not be able to immediately open for emergencies, and there is no immediate alternate route for vessels to pass. However, with a two hour notification for an emergency opening request, the lift mechanism may be reassembled for the lift span to be opened. Major waterway users have been notified and coordinated with for this deviation period. The Coast Guard will also inform the users of the waterways through our Local and Broadcast Notices to Mariners of the change in operating schedule for the bridges so that vessels can arrange their transits to minimize any impact caused by the temporary deviation.

In accordance with 33 CFR 117.35(e), the drawbridge must return to its regular operating schedule immediately at the end of the designated time period. This deviation from the operating regulations is authorized under 33 CFR 117.35.

Dated: October 16, 2015.
Steven M. Fischer,
Bridge Administrator, Thirteenth Coast Guard District.

[FR Doc. 2015-26819 Filed 10-21-15; 8:45 am]

BILLING CODE 9110-04-P